DEPARTMENT OF TRANSPORTATION

Federal Aviation Administration

Notice of Availability for Draft Environmental Assessment (EA) for the Proposed Part 139 Operating Certificate and Related Actions and Notice for Public Hearing at Paulding Northwest Atlanta Airport

AGENCY: Federal Aviation Administration (FAA), DOT.

ACTION: Notice of availability and notice for public hearing.

SUMMARY: The FAA is announcing the availability of a Draft EA for public review and comment. The Draft EA examines the potential environmental impacts of proposed actions to initiate commercial service and to develop the Paulding Northwest Atlanta Airport in accordance with the approved Airport Layout Plan. The EA has been undertaken in accordance with National Environmental Policy Act (NEPA) of 1969 and its implementing regulations. Consultants, acting on behalf of the Paulding County Airport Authority, have prepared a Draft EA that describes the potential environmental impacts associated with the proposed initiation of commercial service and other airport improvement projects on environmental resources in the area.

A Public Hearing for the Draft EA will be held on December 1, 2015 from 6 p.m. to 9 p.m. at the Paulding County Northwest Atlanta Airport, 730 Airport Parkway, Dallas, Georgia 30157.

DATES: The document will be available for public review beginning on October 20, 2015. Comments on the document will be accepted until December 11, 2015.

ADDRESSES: Any person desiring to review the Draft EA and to comment on the document may do so at the following locations: Paulding Northwest Atlanta Airport, 730 Airport Parkway, Dallas, Georgia 30157 or Paulding County Library, 1010 Memorial Drive East, Dallas, Georgia 30132.

FOR FURTHER INFORMATION CONTACT: Lisa Favors, Environmental Program Manager, Atlanta Airports District Office, 1701 Columbia Ave., Suite 220, Atlanta, GA 30337-2747, (404) 305-6744, Lisa.Favors@faa.gov.

SUPPLEMENTARY INFORMATION: The Draft EA will also be made available online for review and comment via the following Web sites:

Paulding Northwest Atlanta Airport: www.pauldingairport.com

Paulding County, Georgia: www.paulding.gov

Issued in Atlanta, Georgia, on October 15, 2015.
Larry F. Clark,
Manager, Atlanta Airports District Office, Southern Region.

[FR Doc. 2015-26869 Filed 10-21-15; 8:45 am]

BILLING CODE 4910-13-P